DEPARTMENT OF ENERGY

Federal Energy Regulatory Commission

[Docket No. RP04-390-000]

OkTex Pipeline Company; Notice of Technical Conference

September 14, 2004.

Take notice that a technical conference will be held on October 5, 2004, from 10 a.m. to 5 p.m. (e.s.t.), in a room to be designated at the offices of the Federal Energy Regulatory Commission, 888 First Street, NE., Washington, DC 20426.

The purpose of the conference is to address OkTex Pipeline Company's (OkTex) proposal to increase its Fuel Retention Percentage (FRP) for its Midstream System and establish a tracking mechanism to annually adjust its FRP. The Commission ordered staff to convene this technical conference in a September 10, 2004 order ¹ directing the parties to meet to discuss the issue, and if possible, to settle this matter.

¹ OkTex Pipeline Company, 108 FERC 61,227 (2004).

All interested persons are permitted to attend. For further information please contact: John Robinson at (202) 502-6808 or e-mail JohnRobinson@ferc.gov.

Linda Mitry,
Acting Secretary.

[FR Doc. E4-2268 Filed 9-20-04; 8:45 am]

BILLING CODE 6717-01-P